DEPARTMENT OF TRANSPORTATION

Office of the Secretary

Notice of Applications for Certificates of Public Convenience and Necessity and Foreign Air Carrier Permits Filed Under Subpart B (Formerly Subpart Q) During the Week Ending May 6, 2005

The following Applications for Certificates of Public Convenience and Necessity and Foreign Air Carrier Permits were filed under subpart B (formerly subpart Q) of the Department of Transportation's Procedural Regulations (see 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: OST-2005-21130.

Date Filed: May 2, 2005.

Due Date for Answers, Conforming Applications, or Motion to Modify Scope: May 23, 2005.

Description: Application of Transportes Aereos de Cabo Verde d/b/a TACV, requesting a foreign air carrier permit to engage in: (a) Scheduled foreign air transportation of persons, property and mail without frequency and capacity limitation, on all routes authorized in Annex I of the Bilateral Agreement for carriers designated by the Government of Cape Verde, namely: (i) From points behind Cape Verde via Cape Verde and intermediate points to a point or points in the United States and beyond; (ii) all-cargo service or services, between the United States and any point or points; (b) international charter traffic of passengers (and their accompanying baggage) and/or cargo (including, but not limited to, freight forwarder, split, and combination (passenger/cargo) charters): (i) Between any point or points in Cape Verde and any point or points in the United States; and (ii) between any point or points in the United States and any point or points in a third country or countries, provided that, except with respect to cargo charters, such service constitutes part of a continuous operation, with or without a change of aircraft, that includes service to Cape Verde for the purpose of carrying local traffic between Cape Verde and the United States.

Docket Number: OST-2005-21135.

Date Filed: May 2, 2005.

Due Date for Answers, Conforming Applications, or Motion to Modify Scope: May 23, 2005.

Description: Application of Jet Airways (India) Ltd., requesting a foreign air carrier permit authorizing it to engage in scheduled foreign air transportation of persons, property, and mail as follows: From points behind India, via India and intermediate points, to a point or points in the United States, and beyond. Jet Airways also requests that its foreign air carrier permit include authority to engage in charter foreign air transportation of persons, property, and mail between India and the United States and between the United States and third countries (provided that such charter traffic is carried on a flight that serves India for purposes of carrying traffic between India and the United States), without prior Department approval; and other charter trips.

Docket Number: OST-2005-21157.

Date Filed: May 3, 2005.

Due Date for Answers, Conforming Applications, or Motion to Modify Scope: May 24, 2005.

Description: Application of Executive Airlines, S.L., requesting a foreign air carrier permit authorizing it to engage in charter foreign air transportation of persons, property and mail between Spain and the United States and other charters between third countries and the United States, using small aircraft.

Andrea M. Jenkins,
Program Manager, Docket Operations, Federal Register Liaison.

[FR Doc. 05-10088 Filed 5-19-05; 8:45 am]

BILLING CODE 4910-62-P